DEPARTMENT OF HOMELAND SECURITY

Coast Guard

[USCG-2004-19085]

Collection of Information Under Review by Office of Management and Budget (OMB): OMB Control Numbers: 1625-0036, 1625-0058, and 1625-0061

AGENCY: Coast Guard, DHS.

ACTION: Request for comments.

SUMMARY: In compliance with the Paperwork Reduction Act of 1995, this request for comments announces that the Coast Guard has forwarded three Information Collection Reports (ICRs)—1625-0036, Plan Approval and Records for U.S. and Foreign Tank Vessels Carrying Oil in Bulk, 1625-0058, Application for Permit To Transport Municipal and Commercial Waste, and 1625-0061, Commercial Fishing Industry Vessel Safety Regulations—abstracted below, to the Office of Information and Regulatory Affairs (OIRA) of the Office of Management and Budget (OMB) for review and comment. Our ICR describes the information we seek to collect from the public. Review and comment by OIRA ensures that we impose only paperwork burdens commensurate with our performance of duties.

DATES: Comments must reach the Coast Guard on or before February 18, 2005.

ADDRESSES: To make sure that your comments and related material do not enter the docket [USCG-2004-19085] more than once, please submit them by only one of the following means:

(1)(a) By mail to the Docket Management Facility, U.S. Department of Transportation (DOT), room PL-401, 400 Seventh Street SW., Washington, DC 20590-0001. (b) By mail to OIRA, 725 17th St NW., Washington, DC 20503, to the attention of the Desk Officer for the Coast Guard.

(2)(a) By delivery to room PL-401 at the address given in paragraph (1)(a) above, between 9 a.m. and 5 p.m., Monday through Friday, except Federal holidays. The telephone number is (202) 366-9329. (b) By delivery to OIRA, at the address given in paragraph (1)(b) above, to the attention of the Desk Officer for the Coast Guard.

(3) By fax to (a) the Facility at (202) 493-2298 and (b) OIRA at (202) 395-6566, or e-mail to OIRA at oira-docket@omb.eop.gov attention: Desk Officer for the Coast Guard.

(4)(a) Electronically through the Web Site for the Docket Management System at http://dms.dot.gov. (b) OIRA does not have a Web site on which you can post your comments.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICR are available through this docket on the Internet at http://dms.dot.gov, and also from Commandant (CG-611), U.S. Coast Guard Headquarters, room 6106 (Attn: Ms. Barbara Davis), 2100 Second Street SW., Washington, DC 20593-0001. The telephone number is (202) 267-2326.

FOR FURTHER INFORMATION CONTACT: Ms. Barbara Davis, Office of Information Management, (202) 267-2326, for questions on these documents; or Ms. Andrea M. Jenkins, Program Manager, Docket Operations, (202) 366-0271, for questions on the docket.

SUPPLEMENTARY INFORMATION:

Request for Comments

The Coast Guard invites comments on the proposed collection of information to determine whether the collections are necessary for the proper performance of the functions of the Department. In particular, the Coast Guard would appreciate comments addressing: (1) The practical utility of the collections; (2) the accuracy of the estimated burden of the collections; (3) ways to enhance the quality, utility, and clarity of the information that is the subject of the collections; and (4) ways to minimize the burden of collections on respondents, including the use of automated collection techniques or other forms of information technology.

Comments to DMS or OIRA must contain the OMB Control Number of the Information Collection Reports (ICR) addressed. Comments to DMS must contain the docket number of this request, [USCG 2004-19085]. Comments to OIRA are best assured of having their full effect if OIRA receives them on or before the 30th day after the publication of this request.

Public participation and request for comments: We encourage you to participate in this request for comments by submitting comments and related materials. We will post all comments received, without change, to http://dms.dot.gov, and they will include any personal information you have provided. We have an agreement with DOT to use their Docket Management Facility. Please see the paragraph on DOT's “Privacy Act Policy” below.

Submitting comments: If you submit a comment, please include your name and address, identify the docket number for this request for comment [USCG-2004-19085], indicate the specific section of this document or the ICR to which each comment applies, and give the reason for each comment. You may submit your comments and material by electronic means, mail, fax, or delivery to the Docket Management Facility at the address under ADDRESSES, but please submit them by only one means. If you submit them by mail or delivery, submit them in an unbound format, no larger than 8½ by 11 inches, suitable for copying and electronic filing. If you submit them by mail and would like to know that they reached the Facility, please enclose a stamped, self-addressed postcard or envelope.

We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Previous Request for Comments

This request provides a 30-day comment period required by OIRA. The Coast Guard has already published the 60-day notice required by 44 U.S.C. 3506(c)(2) (69 FR 56782, September 22, 2004). That notice elicited one comment to information collection 1625-0036. The commenter states that the information collection is not adequate to protect the U.S. coastal environment and suggests keeping satellite records of our coastline and requiring foreign ships to notify the Coast Guard prior to entering our waters. In general, the comment is beyond the scope of this information collection. Information collection 1625-0036 aids the Coast Guard in determining if a tank vessel complies with certain safety and environmental protection standards. Tank vessel design, construction and system operating information must be submitted and/or maintained on board for compliance with these standards. Details of the collection can be found in the supporting statement in the docket. COI 1625-0036 is one of a number of Coast Guard information collections related to environmental protection and maritime security. For example, COI 1625-0100—not part of this notice—relates to the Coast Guard requirement that certain vessels report to the Coast Guard 96 hours in advance of arrival to a U.S. port.

Information Collection Requests

1. Title: Plan Approval and Records for U.S. and Foreign Tank Vessels Carrying Oil in Bulk.

OMB Control Number: 1625-0036.

Type of Request: Extension of currently approved collection.

Affected Public: Owners and operators of vessels.

Form: None.

Abstract: This information collection aids the Coast Guard in determining if a vessel complies with certain safety and environmental protection standards. Plans/records for construction or modification of U.S. or foreign vessels submitted and/or maintained on board are needed for compliance with these standards.

Burden Estimates: The estimated burden is 582 hours a year.

2. Title: Application for Permit to Transport Municipal and Commercial Waste.

OMB Control Number: 1625-0058.

Type of Request: Extension of currently approved collection.

Affected Public: Owners and operators of vessels.

Form: None.

Abstract: This information collection provides the basis for issuing or denying a permit for the transportation of municipal or commercial waste in the coastal waters of the United States.

Burden Estimates: The estimated burden is 69 hours a year.

3. Title: Commercial Fishing Industry Vessel Safety Regulations.

OMB Control Number: 1625-0061.

Type of Request: Extension of currently approved collection.

Affected Public: Owners, agents, individuals-in-charge of commercial fishing vessels, and insurance underwriters.

Form: None.

Abstract: This information collection is intended to improve safety on board vessels in the commercial fishing industry. The requirements apply to those vessels and to seamen on them.

Burden Estimates: The estimated burden is 7,720 hours a year.

Dated: January 7, 2005.
Ronald T. Hewitt,
Assistant Commandant for Command, Control, Communications, Computers and Information Technology.

[FR Doc. 05-964 Filed 1-18-05; 8:45 am]

BILLING CODE 4910-15-P